DEPARTMENT OF THE INTERIOR

Bureau of Land Management

[LLUT980300-L11200000-PH0000-24-1A]

Utah Resource Advisory Council Meeting/Conference Call

AGENCY: Bureau of Land Management, Interior.

ACTION: Notice of Meeting/Conference Call

SUMMARY: In accordance with the Federal Land Policy and Management Act and the Federal Advisory Committee Act, the Bureau of Land Management's (BLM) Utah Resource Advisory Council (RAC) will host a meeting/conference call.

DATES: The Utah RAC will host a meeting/conference call on Wednesday, August 21, 2013, from 8:30 a.m.-12:30 p.m., MST.

ADDRESSES: Those attending in person must meet at the BLM, Utah State Office, 440 West 200 South, Salt Lake City, Utah, in the Monument Conference Room on the fifth floor.

FOR FURTHER INFORMATION CONTACT: If you wish to listen to the teleconference, orally present material during the teleconference, or submit written material for the RAC to consider during the teleconference, please notify Sherry Foot, Special Programs Coordinator, Bureau of Land Management, Utah State Office, 440 West 200 South, Suite 500, Salt Lake City, Utah 84101; phone 801-539-4195; or, sfoot@blm.gov by Friday, August 16, 2013.

SUPPLEMENTARY INFORMATION: The Utah RAC formed a subgroup to review BLM-Utah's draft three-year National Conservation Lands Strategy. In June 2013, the RAC subgroup provided the BLM-Utah State Director with recommended changes to the draft strategy and this meeting will be held to discuss the changes. A public comment period will take place immediately following the presentation. The meeting is open to the public; however, transportation, lodging, and meals are the responsibility of the participating individuals. The conference call will be recorded for purposes of minute-taking.

Authority: 43 CFR 1784.4-1.

Jenna Whitlock,
Associate State Director.

[FR Doc. 2013-17356 Filed 7-18-13; 8:45 am]

BILLING CODE 4310-DQ-P